DEPARTMENT OF AGRICULTURE

Forest Service

Black Hills National Forest Advisory Board

AGENCY: Forest Service, USDA.

ACTION: Notice of meeting.

SUMMARY: The Black Hills National Forest Advisory Board (Board) will meet in Rapid City, South Dakota. The Board is established consistent with the Federal Advisory Committee Act of 1972, the Forest and Rangeland Renewable Resources Planning Act of 1974, the National Forest Management Act of 1976, and the Federal Public Lands Recreation Enhancement Act. Additional information concerning the Board, including meeting agendas and meeting summary/minutes, can be found by visiting the Board's website at: http://www.fs.usda.gov/main/blackhills/workingtogether/advisorycommittees.

DATES: The meeting will be held on Wednesday, February 19, 2020, at 1:00 p.m. All meetings are subject to cancellation. For updated status of meeting prior to attendance, please contact person listed under For Further Information Contact.

ADDRESSES: The meeting will be held at the Forest Service Center, 8221 Mount Rushmore Road, Rapid City, South Dakota 57702.

Written comments may be submitted as described under Supplementary Information. All comments, including names and addresses, when provided, are placed in the record and available for public inspection and copying. The public may inspect comments received at the Black Hills National Forest Supervisor's Office. Please call ahead to facilitate entry into the building.

FOR FURTHER INFORMATION CONTACT: Scott Jacobson, Committee Coordinator, by phone at 605-673-9216 or by email at scott.j.jacobson@usda.gov.

Individuals who use telecommunication devices for the deaf (TDD) may call the Federal Information Relay Service (FIRS) at 1-800-877-8339 between 8:00 a.m. and 8:00 p.m., Eastern Standard Time, Monday through Friday.

SUPPLEMENTARY INFORMATION: The purpose of the meetings is to provide:

1. Motorized Trail Strategy Recommendation;

2. Alvin Categorical Exclusion (CE);

3. Orientation Topic: Forest Service Trust Fund;

4. Forest Inventory Analysis (FIA);

5. Timber Sustainability Working Group;

6. Over-Snow (Fat Tire Bikes) Working Group; and,

7. Election of Chair/Vice Chair.

The meeting is open to the public. If time allows, the public may make oral statements of three minutes or less. Individuals wishing to make an oral statement should submit a request in writing by February 10, 2020, to be scheduled on the agenda. Anyone who would like to bring related letters to the attention of the Board may file written statements with the Board's staff before or after the meeting. Written comments and time requests for oral comments must be sent to Scott Jacobson, Black Hills National Forest Supervisor's Office, 1019 North Fifth Street, Custer, South Dakota 57730; by email to scott.j.jacobson@usda.gov, or via facsimile to 605-673-9208.

Meeting Accommodations: If you are a person requiring reasonable accommodation, please make requests in advance for sign language interpreting, assistive listening devices, or other reasonable accommodation for access to the facility or proceedings by contacting the person listed in the section titled For Further Information Contact. All reasonable accommodation requests are managed on a case by case basis.

Dated: January 8, 2020.
Cikena Reid,
USDA Committee Management Officer.

[FR Doc. 2020-00457 Filed 1-14-20; 8:45 am]

BILLING CODE 3411-15-P